DEPARTMENT OF COMMERCE

National Institute of Standards and Technology

Information Collection Activities; Submission to the Office of Management and Budget (OMB) for Review and Approval; Comment Request; National Environmental Policy Act (NEPA) Financial Disclosure Information Collection Request (ICR)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 09/20/2023 during a 60-day comment period. This notice allows for an additional 30 days for public comments.

Agency: National Institute of Standards and Technology (NIST), Commerce.

Title: National Environmental Policy Act (NEPA) Financial Disclosure (ICR).

OMB Control Number 0693-XXXX.

Form Number(s): None.

Type of Request: Regular submission—new information collection.

Number of Respondents: 20.

Average Hours per Response: 15 minutes.

Burden Hours: 5 hours.

Needs and Uses: NIST developed a NEPA financial disclosure statement for project sponsors to use in conjunction with preparation of environmental review documents under the agency's supervision. This statement will be used in a variety of contexts at NIST. NIST will request recipients of funds for extramural construction to prepare environmental review documents and to submit the NEPA financial disclosure statement.

This statement will also be used by the CHIPS Incentives Program. The CHIPS Incentives Program is authorized by Title XCIX—Creating Helpful Incentives to Produce Semiconductors for America of the William M. (Mac) Thornberry National Defense Authorization Act for Fiscal Year 2021 (Pub. L. 116-283, referred to as the CHIPS Act or Act), as amended by the CHIPS Act of 2022 (Division A of Pub. L. 117-167).

Affected Public: Business or other for-profit organizations.

Frequency: Once.

Respondent's Obligation: Mandatory to obtain benefits.

Legal Authority: 42 U.S.C. 4336a(f), 40 CFR 1506.5 and 1507.3.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection.

Sheleen Dumas,
Department PRA Clearance Officer, Office of the Under Secretary for Economic Affairs, Commerce Department.

[FR Doc. 2024-00585 Filed 1-11-24; 8:45 am]

BILLING CODE 3510-13-P